DEPARTMENT OF DEFENSE

Department of the Army

Notice of Availability of the Final Environmental Impact Statement (FEIS) for Base Closure and Realignment (BRAC) Actions at Fort Lee, Virginia, and Fort A.P. Hill, Virginia

AGENCY: Department of the Army, DoD.

ACTION: Notice of Availability (NOA).

SUMMARY: The Department of the Army announces the availability of an FEIS which evaluates the potential environmental impacts associated with realignment actions directed by the Base Closure and Realignment (BRAC) Commission at Fort Lee, Virginia.

DATES: The waiting period for the FEIS will end 30 days after publication of an NOA in the Federal Register by the U.S. Environmental Protection Agency.

ADDRESSES: To obtain a copy of the FEIS, please contact: Ms. Carol Anderson (Fort Lee), IMNE-EE-PWE, 1816 Shop Rd., Fort Lee, Virginia 23801-1604, e-mail address: CRMLee@lee.army.mil.

FOR FURTHER INFORMATION CONTACT: Ms. Anderson at (804) 734-5071, or Ms. Terry Banks, Fort A.P. Hill, at (804) 633-8223, during normal business hours Monday through Friday.

SUPPLEMENTARY INFORMATION: The subject of the FEIS and the Proposed Action is the construction and renovation activities at both installations, movement of personnel to Fort Lee, and related field training activities at Fort A.P. Hill associated with the BRAC-directed realignment of Fort Lee.

To implement the BRAC recommendations, Fort Lee will be receiving personnel, equipment, and missions from various closure and realignment actions within the Department of Defense. To implement the BRAC Commission recommendations, the Army will provide the necessary facilities, buildings, and infrastructure at Fort Lee to support the establishment of a Sustainment Center of Excellence, a Joint Center for Consolidated Transportation Management Training, and a Joint Center of Excellence for Culinary Training; locate various offices of the Defense Contract Management Agency (DCMA) Headquarters; and receive all components of the Defense Commissary Agency (DeCA). Additionally, facilities will be installed or constructed at Fort A.P. Hill to accommodate field training exercises and leadership skills training for Student Soldiers at Fort Lee. These actions will impact several areas at the installations.

Following a rigorous examination of all implementation alternative, those alternatives found not to be viable were dropped from further analysis in the Fort Lee and Fort A.P. Hill FEIS. Alternatives carried forward include the Preferred Alternative and a No Action Alternative. The Preferred Alternative includes construction, renovation, and operation of proposed facilities to accommodate incoming military missions at Fort Lee.

The FEIS analyses indicate that implementation of the preferred alternative would have long-term, significant adverse impacts on socioeconomic resources (local school districts, and community services), and the transportation network at Fort Lee and its surrounding area, and no long-term significant adverse impacts on any resources at Fort A.P. Hill or its surrounding area. Minor adverse impacts on all other resources at both installations would potentially occur from implementation of the preferred alternative. Construction of new facilities in the cantonment area would have a long-term minor adverse impact on the historic setting of the Petersburg National Battlefield.

An electronic version of the FEIS can be viewed or downloaded from the following URL: http://www.hqda.army.mil/acsim/brac/nepa_eis_docs.htm.

Dated: March 1, 2007
Addison D. Davis, IV,
Deputy Assistant Secretary of the Army, (Environment, Safety and Occupational Health).

[FR Doc. 07-1072 Filed 3-7-07; 8:45 am]

BILLING CODE 3710-08-M\